DEPARTMENT OF COMMERCE

National Oceanic and Atmospheric Administration

50 CFR Part 679

[Docket No. 101126522-0522-02 ]

RIN 0648-XZ89

Fisheries of the Exclusive Economic Zone Off Alaska; Gulf of Alaska; Proposed 2011 and 2012 Harvest Specifications for Groundfish

AGENCY: National Marine Fisheries Service (NMFS), National Oceanic and Atmospheric Administration (NOAA), Commerce.

ACTION: Proposed rule; request for comments.

SUMMARY: NMFS proposes 2011 and 2012 harvest specifications, apportionments, and Pacific halibut prohibited species catch limits for the groundfish fishery of the Gulf of Alaska (GOA). This action is necessary to establish harvest limits for groundfish during the 2011 and 2012 fishing years and to accomplish the goals and objectives of the Fishery Management Plan for Groundfish of the Gulf of Alaska. The intended effect of this action is to conserve and manage the groundfish resources in the GOA in accordance with the Magnuson-Stevens Fishery Conservation and Management Act.

DATES: Comments must be received by January 7, 2011.

ADDRESSES: Send comment to Sue Salveson, Assistant Regional Administrator, Sustainable Fisheries Division, Alaska Region, NMFS, Attn: Ellen Sebastian. You may submit comments, identified by RIN 0648-XZ89, by any one of the following methods:

• Electronic Submissions: Submit all electronic public comments via the Federal eRulemaking Portal at http://www.regulations.gov.

• Mail: P.O. Box 21668, Juneau, AK 99802.

• Fax: (907) 586-7557.

• Hand delivery to the Federal Building: 709 West 9th Street, Room 420A, Juneau, AK.

All comments received are a part of the public record. No comments will be posted to http://www.regulations.gov for public viewing until after the comment period has closed. Comment will generally be posted without change. All Personal Identifying Information (for example, name, address) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

Electronic copies of the Alaska Groundfish Harvest Specifications Final Environmental Impact Statement (Final EIS), the Initial Regulatory Flexibility Analysis (IRFA), and the Supplemental IRFA prepared for this action may be obtained from http://www.regulations.gov or from the Alaska Region Web site at http://alaskafisheries.noaa.gov. Copies of the final 2009 Stock Assessment and Fishery Evaluation (SAFE) report for the groundfish resources of the GOA, dated November 2009, are available from the North Pacific Fishery Management Council (Council) at 605 West 4th Avenue, Suite 306, Anchorage, AK 99510-2252, phone 907-271-2809, or from the Council's Web site at http://alaskafisheries.noaa.gov/npfmc. The draft 2010 SAFE report for the GOA will be available from the same sources in November 2010.

FOR FURTHER INFORMATION CONTACT: Tom Pearson, 907-481-1780, or Obren Davis, 907-586-7228.

SUPPLEMENTARY INFORMATION: NMFS manages the GOA groundfish fisheries in the exclusive economic zone (EEZ) of the GOA under the Fishery Management Plan for Groundfish of the Gulf of Alaska (FMP). The Council prepared the FMP under the authority of the Magnuson-Stevens Fishery Conservation and Management Act (Magnuson-Stevens Act), 16 U.S.C. 1801, et seq. Regulations governing U.S. fisheries and implementing the FMP appear at 50 CFR parts 600, 679, and 680.

These proposed specifications are based in large part on the 2009 SAFE report (see ADDRESSES). In December 2010, the Council will consider the draft 2010 SAFE report to develop its recommendations for the final 2011 and 2012 acceptable biological catch (ABC) amounts and total allowable catch (TAC) limits. In addition to the proposed specifications, this proposed rule identifies anticipated changes to the proposed specifications that might result from the Council's review of the 2010 SAFE report for public review.

The FMP and its implementing regulations require NMFS, after consultation with the Council, to specify the TACs for each target species, the sum of which must be within the optimum yield (OY) range of 116,000 to 800,000 metric tons (mt). Section 679.20(c)(1) further requires NMFS to publish and solicit public comment on proposed annual TACs, halibut prohibited species catch (PSC) amounts, and seasonal allowances of pollock and inshore/offshore Pacific cod. The proposed specifications in Tables 1 through 18 of this document satisfy these requirements. For 2011 and 2012, the sum of the proposed TAC amounts is 330,746 mt. Under § 679.20(c)(3), NMFS will publish the final 2011 and 2012 specifications after (1) considering comments received within the comment period (see DATES), (2) consulting with the Council at its December 2010 meeting, and (3) considering information presented in the Final EIS (see ADDRESSES) and the final 2010 SAFE report prepared for the 2011 and 2012 groundfish fisheries.

Other Actions Potentially Affecting the 2011 and 2012 Harvest Specifications

NMFS published a final rule to implement Amendment 87 to the FMP on October 6, 2010 (75 FR 61639), effective November 5, 2010. Amendment 87 moves sharks, sculpins, squids, and octopuses from the “other species” category to the “target species” category in the GOA and eliminates the “other species” category in the GOA FMP. Amendment 87 revises the FMP to meet the National Standard 1 guidelines for annual catch limits and accountability measures and requires that overfishing levels (OFLs), ABCs, and TACs be established for sharks, sculpins, squids, and octopuses as part of the annual groundfish harvest specifications process. Based on the 2009 SAFE report, NMFS proposes ABCs, TACs, and OFLs for sharks, sculpins, octopuses, and squids listed in Table 1.

Implementation of Amendment 87 to the FMP was necessary to comply with Magnuson-Stevens Act requirements associated with annual catch limits and accountability measures and will result in revisions to how total annual groundfish mortality is estimated and accounted for in the annual SAFE reports. These revisions may affect the OFLs and ABCs for certain groundfish species. Specifically, NMFS will attempt to identify additional sources of mortality to groundfish stocks not currently reported or considered by the groundfish stock assessments in recommending OFLs, ABCs, and TACs for certain groundfish species. These additional sources of mortality result from recreational fishing, subsistence fishing, trawl and hook-and-line surveys, exempted fishing permits, research, commercial halibut fisheries, crab bait, sablefish catch predation by whales, or other sources of mortality not yet identified. Many of the sources of this mortality have been identified, some of which are currently unreported due to the absence of formal reporting protocols.

NMFS intends to develop a single database that stock assessment authors can access through a single source such as the Alaska Fisheries Information Network. The development of this data base will require the cooperation of several agencies including NMFS, the Alaska Department of Fish and Game, and the International Pacific Halibut Commission (IPHC). At its October 2010 meeting, the Council's groundfish Plan Teams recommended the formation of a total catch accounting working group to assist NMFS in developing a methodology to estimate total catch of groundfish. While much of the information is currently available and will be incorporated into the final 2010 SAFE report, the development of an adequate methodology is ongoing and not fully ready for use in the final SAFE report. NMFS intends to have this information fully available for the 2011 assessment cycle.

In conjunction with the implementation of Amendment 87, during its October 2010 meeting, the Council made additional recommendations with respect to the management of octopuses. The Council, in response to the fishing industry's concerns that new requirements for ACLs for octopuses may constrain commercial fisheries, initiated an analysis for amendments to the FMP that would consider moving octopuses into the ecosystem category or create octopus discard mortality rates. Initial review and final action are scheduled tentatively for April and June 2011, respectively. The intent is for the amendments to be implemented for the 2012 fisheries.

The Council, at its December 2009 meeting, took final action to recommend a Pacific cod sector split in the Western and Central GOA. If approved by the Secretary of Commerce, the Pacific cod TAC would be allocated in the Western GOA among trawl catcher/processors (C/Ps), trawl catcher vessels (CVs), hook-and-line C/Ps, hook-and-line CVs, combined CP and CV pot vessels, and jig vessels; and in the Central GOA among trawl C/Ps, trawl catcher vessels (CVs), hook-and-line C/Ps, hook-and-line CVs less than 50 feet length overall, hook-and-line CVs equal to or greater than 50 feet length overall, combined C/P and CV pot vessels, and jig vessels. Sector allocations may provide stability to long-term participants in the fishery by reducing competition among sectors for access to the GOA Pacific cod resource. NMFS intends to publish proposed and final rulemaking for this action during 2011. If these sector allocations are approved and implemented for the 2012 Pacific cod fishery in the Western and Central GOA, the allocations of the Pacific cod TAC between the inshore and offshore components in the Western and Central GOA would be discontinued and replaced by allocations to each sector noted above.

Proposed ABC and TAC Specifications

The amounts proposed for the 2011 and 2012 harvest specifications are based on the 2009 SAFE report. The proposed ABCs and TACs could be changed in the final harvest specifications depending on the most recent scientific information contained in the final 2010 SAFE report. The SAFE report contains a review of the latest scientific analyses and estimates of each species' biomass and other biological parameters, as well as summaries of the available information on the GOA ecosystem and the economic condition of the groundfish fisheries off Alaska. From these data and analyses, the GOA Groundfish Plan Team (Plan Team) estimates an ABC for each species category.

At the October 2010 Council meeting, the Council, the Scientific and Statistical Committee (SSC), and the Advisory Panel (AP) reviewed most recent biological and harvest information about the condition of groundfish stocks in the GOA. This information was initially compiled by the Plan Team and presented in the final 2009 SAFE report for the GOA groundfish fisheries, dated November 2009 (see ADDRESSES). In November 2010, the Plan Team will update the 2009 SAFE report to include new information collected during 2010, such as revised stock assessments and catch data. The Plan Team will compile this information and produce the draft 2010 SAFE report in time for the Council to review it during the December 2010 Council meeting. Upon completing its review, the Council will formally approve the draft 2010 SAFE report. Once this approval occurs, the draft 2010 SAFE report will be considered final. The Council also will consider information contained in the draft 2010 SAFE report, the recommendations made by the Plan Team during its November 2010 meeting, information from the December 2010 SSC and AP meetings, public testimony, and relevant written public comments in making its recommendations for the final 2011 and 2012 harvest specifications.

In previous years the largest changes from the proposed to the final harvest specifications have been based on the most recent NMFS stock surveys, which provide updated estimates of stock biomass and spatial distribution, and changes to the models used for making stock assessments. NMFS scientists presented updated and new survey results, changes to assessment models, and accompanying stock estimates at the September Plan Team meeting, and the SSC reviewed this information at the October 2010 Council meeting. In November 2010, the Plan Team considered updated stock assessments for pollock, Pacific cod, sablefish, sharks, squids, sculpins, and octopuses which were included in the draft 2010 SAFE report. For the other groundfish stocks without recent surveys or other new scientific information, NMFS will update the assessments to include any other available, recent information, such as 2010 catch. Thus, NMFS does not expect the final harvest specification amounts for the latter group of stocks (i.e., those without recent surveys) to vary greatly from the proposed specification amounts published here.

If the draft 2010 SAFE report indicates that the stock biomass trend is increasing for a species, then the final 2011 and 2012 harvest specifications for that species may reflect an increase from the proposed harvest specifications. The draft 2010 SAFE reports indicate that the biomass trend for pollock, Pacific cod, Rex sole, arrowtooth flounder, northern rockfish, and demersal shelf rockfish may be increasing. Conversely, if the draft 2010 SAFE report indicates that the stock biomass trend is decreasing for a species, then the final 2011 and 2012 harvest specifications may reflect a decrease from the proposed harvest specifications. The draft 2010 SAFE reports indicate that the biomass trend for flathead sole, pelagic shelf rockfish, and sharks may be decreasing. Notwithstanding the apparent decrease in the shark biomass, the Plan Team will be recommending an alternative method for calculating shark OFL to the SSC at the December 2010 Council meeting. If the SSC concurs with this method, the final harvest specifications may reflect an increasing OFL, ABC, and TAC for sharks.

The biomass trends for species otherwise not listed above are relatively level and stable. However, with respect to octopuses, the Plan Team also will recommend an alternative method to calculate the octopus OFL to the SSC at the December 2010 Council meeting. This method varies from the default method of using Tier 6 methodology as specified in the FMP. The new method would incorporate octopus biomass estimates from recent GOA groundfish trawl surveys, in combination with historical catch data, to calculate the OFL for octopuses. If accepted by the SSC, this change could result in an increasing OFL, ABC, and TAC for octopuses.

The proposed ABCs and TACs are based on the best available biological and socioeconomic data, including projected biomass trends, information on assumed distribution of stock biomass, and revised methods used to calculate stock biomass. The FMP specifies the formulas, or tiers, to be used to compute ABCs and OFLs. Fisheries scientists determine formulas applicable to a particular stock or stock complex based on the level of available, reliable information. This information is categorized in the FMP into a successive series of six tiers to define OFL and ABC amounts, with tier one representing the highest level of information quality available and tier six representing the lowest level of information quality available.

The SSC adopted the proposed 2011 and 2012 OFLs and ABCs recommended by the Plan Team for all groundfish species. The Council adopted the SSC's OFL and ABC recommendations and the AP's TAC recommendations. These amounts are unchanged from the final 2011 harvest specifications published in the Federal Register on March 12, 2010 (75 FR 11749) . The exceptions to this are the establishment of individual ABC and TAC amounts for sculpins, sharks, squid, and octopuses per the adoption of Amendment 87 to the FMP, as previously described. For 2011 and 2012, the Council recommended and NMFS proposes the OFLs, ABCs, and TACs listed in Table 1. The proposed ABCs reflect harvest amounts that are less than the specified overfishing amounts. The sum of the proposed 2011 and 2012 ABCs for all assessed groundfish is 605,086 mt, which is higher than the final 2010 ABC total of 565,499 mt (75 FR 11749, March 12, 2010).

Specification and Apportionment of TAC Amounts

The Council recommended proposed TACs for 2011 and 2012 that are equal to proposed ABCs for pollock, deep-water flatfish, rex sole, sablefish, Pacific ocean perch, shortraker rockfish, rougheye rockfish, northern rockfish, pelagic shelf rockfish, thornyhead rockfish, demersal shelf rockfish, skates, sharks, sculpins, squids, and octopuses. The Council recommended other proposed TACs for 2011 and 2012 that are less than the proposed ABCs for certain species: Pacific cod, flathead sole, shallow-water flatfish, arrowtooth flounder, and other rockfish. The Pacific cod TACs are set to accommodate the State of Alaska's (State) GHLs for Pacific cod so that the ABC is not exceeded. The flathead sole, shallow-water flatfish, and arrowtooth flounder TACs are set to conserve the halibut PSC limit for use in other fisheries. The other rockfish TACs are set to reduce the amount of discards in the Southeast Outside (SEO) District. The Atka mackerel TAC is set to accommodate incidental catch amounts.

The ABC for the pollock stock in the combined Western, Central, and West Yakutat Regulatory Areas (W/C/WYK) has been adjusted to reflect the Guideline Harvest Level (GHL) established by the State for the Prince William Sound (PWS) pollock fishery since its inception in 1995. Genetic studies revealed that the pollock in PWS was not a separate stock from the combined W/C/WYK population. Accordingly, the Council recommended decreasing the W/C/WYK pollock ABC to account for the State's PWS GHL. For 2011, the PWS GHL for pollock is 1,650 mt.

The apportionment of annual pollock TAC among the Western and Central Regulatory Areas of the GOA reflects the seasonal biomass distribution and is discussed in greater detail below. The annual pollock TAC in the Western and Central Regulatory Areas of the GOA is apportioned among Statistical Areas 610, 620, and 630, and divided equally among each of the following four seasons: The A season (January 20 through March 10), the B season (March 10 through May 31), the C season (August 25 through October 1), and the D season (October 1 through November 1) (50 CFR 679.23(d)(2)(i) through (iv), and 679.20(a)(5)(iv)(A), (B)).

As in 2010, the SSC and Council recommended that the method of apportioning the sablefish ABC among management areas in 2011 and 2012 include commercial fishery and survey data. NMFS stock assessment scientists believe that unbiased commercial fishery catch-per-unit-effort data are useful for stock distribution assessments. NMFS evaluates annually the use of commercial fishery data to ensure that unbiased information is included in stock distribution models. The Council's recommendation for sablefish area apportionments also takes into account the prohibition on the use of trawl gear in the SEO District of the Eastern Regulatory Area and makes available five percent of the combined Eastern Regulatory Area TACs to trawl gear for use as incidental catch in other directed groundfish fisheries in the WYK District (§ 679.20(a)(4)(i)).

The AP, SSC, and Council recommended apportionment of the ABC for Pacific cod in the GOA among regulatory areas based on the three most recent NMFS summer trawl surveys. The proposed 2011 and 2012 Pacific cod TACs are affected by the State's fishery for Pacific cod in State waters in the Western and Central Regulatory Areas, as well as in PWS. The Plan Team, SSC, AP, and Council recommended that the sum of all State and Federal water Pacific cod removals from the GOA not exceed ABC recommendations. Accordingly, the Council recommended reducing the proposed 2011 and 2012 Pacific cod TACs in the proposed ABCs for the Eastern, Central, and Western Regulatory Areas to account for State GHLs. Therefore, the proposed 2011 and 2012 Pacific cod TACs are less than the proposed ABCs by the following amounts: (1) Eastern GOA, 734 mt; (2) Central GOA, 15,174 mt; and (3) Western GOA, 8,566 mt. These amounts reflect the sum of the State's 2011 and 2012 guideline harvest levels in these areas, which are 25 percent of the Eastern, Central, and Western GOA proposed ABCs. In 2011, the State waters Pacific cod GHL in PWS was increased from 15 to 25 percent of the Eastern GOA Pacific cod ABC, per the recommendations of State of Alaska Department of Fish and Game fisheries managers. Thus, the corresponding 2011 and 2012 Eastern GOA Pacific cod TAC may decrease in final harvest specifications to accommodate the increased State GHL in that area.

NMFS also is proposing seasonal apportionments of the annual Pacific cod TACs in the Western and Central Regulatory Areas. Sixty percent of the annual TAC is apportioned to the A season for hook-and-line, pot, or jig gear from January 1 through June 10, and for trawl gear from January 20 through June 10. Forty percent of the annual TAC is apportioned to the B season for hook-and-line, pot, or jig gear from September 1 through December 31, and for trawl gear from September 1 through November 1 (§§ 679.23(d)(3) and 679.20(a)(12)).

As in 2010, NMFS proposes to establish for 2011 and 2012 an A season directed fishing allowance (DFA) for the Pacific cod fisheries in the GOA based on the management area TACs minus the recent average A season incidental catch of Pacific cod in each management area before June 10 (§ 679.20(d)(1)). The DFA and incidental catch before June 10 will be managed such that total catch in the A season will be no more than 60 percent of the annual TAC. Incidental catch taken after June 10 will continue to accrue against the B season TAC. This action meets the intent of the Steller sea lion protection measures by achieving temporal dispersion of the Pacific cod removals and reducing the likelihood of catch exceeding 60 percent of the annual TAC in the A season.

The sum of the proposed TACs for all GOA groundfish is 330,746 mt for 2011 and 2012, which is within the OY range specified by the FMP. The sums of the proposed 2011 and 2012 TACs are higher than the sum of the 2010 TACs of 292,087 mt, but are unchanged from the 2011 TACs currently specified for the GOA groundfish fisheries (75 FR 11788, March 12, 2010), with the exception of the Eastern GOA Pacific Cod TAC and the TACs for the major taxonomic groups (sharks, squids, octopuses, and sculpins), which used to compose the “other species” category.

Table 1 lists the proposed 2011 and 2012 ABCs, TACs, and OFLs and area apportionments of groundfish in the GOA. These amounts are consistent with the biological condition of groundfish stocks as described in the 2009 SAFE report, and adjusted for other biological and socioeconomic considerations, including maintaining the total TAC within the required OY range. These proposed amounts are subject to change pending the completion of the draft 2010 SAFE report and the Council's recommendations for the final 2011 and 2012 harvest specifications during its December 2010 meeting.

Table 1—Proposed 2011 and 2012 ABCs, TACs, and OFLs of Groundfish for the Western/Central/West Yakutat (W/C/WYK), Western (W), Central (C), Eastern (E) Regulatory Areas, and in the West Yakutat (WYK), Southeast Outside (SEO), and Gulfwide (GW) Districts of the Gulf of Alaska
[Values are rounded to the nearest metric ton]
Species | Area ¹ | ABC | TAC | OFL
Pollock ² | Shumagin (610) | 34,728 | 34,728 | n/a
| Chirikof (620) | 37,159 | 37,159 | n/a
| Kodiak (630) | 25,287 | 25,287 | n/a
| WYK (640) | 2,686 | 2,686 | n/a
| W/C/WYK (subtotal) | 99,860 | 99,860 | 135,010
| SEO (650) | 9,245 | 9,245 | 12,326
| Total | 109,105 | 109,105 | 147,336
Pacific cod ³ | W | 34,265 | 25,699 | n/a
| C | 60,698 | 45,524 | n/a
| E | 2,937 | 2,203 | n/a
| Total | 97,900 | 73,426 | 116,700
Sablefish ⁴ | W | 1,488 | 1,488 | n/a
| C | 4,042 | 4,042 | n/a
| WYK | 1,450 | 1,450 | n/a
| SEO | 2,320 | 2,320 | n/a
| E (WYK and SEO) (subtotal) | 3,770 | 3,770 | n/a
| Total | 9,300 | 9,300 | 11,008
Shallow-water flatfish ⁶ | W | 23,681 | 4,500 | n/a
| C | 29,999 | 13,000 | n/a
| WYK | 1,228 | 1,228 | n/a
| SEO | 1,334 | 1,334 | n/a
| Total | 56,242 | 20,062 | 67,768
Deep-water flatfish ⁵ | W | 530 | 530 | n/a
| C | 2,928 | 2,928 | n/a
| WYK | 2,089 | 2,089 | n/a
| SEO | 778 | 778 | n/a
| Total | 6,325 | 6,325 | 7,847
Rex sole | W | 1,521 | 1,521 | n/a
| C | 6,312 | 6,312 | n/a
| WYK | 871 | 871 | n/a
| SEO | 888 | 888 | n/a
| Total | 9,592 | 9,592 | 12,534
Arrowtooth flounder | W | 34,263 | 8,000 | n/a
| C | 144,262 | 30,000 | n/a
| WYK | 22,501 | 2,500 | n/a
| SEO | 11,693 | 2,500 | n/a
| Total | 212,719 | 43,000 | 250,559
Flathead sole | W | 17,520 | 2,000 | n/a
| C | 28,190 | 5,000 | n/a
| WYK | 2,068 | 2,068 | n/a
| SEO | 1,508 | 1,508 | n/a
| Total | 49,286 | 10,576 | 61,601
Pacific ocean perch ⁷ | W | 2,797 | 2,797 | 3,220
| C | 10,377 | 10,377 | 11,944
| WYK | 1,937 | 1,937 | n/a
| SEO | 1,882 | 1,882 | n/a
| E (WYK and SEO) (subtotal) | 3,819 | 3,819 | 4,396
| Total | 16,993 | 16,993 | 19,560
Northern rockfish 8 9 | W | 2,549 | 2,549 | n/a
| C | 2,259 | 2,259 | n/a
| E | 0 | 0 | n/a
| Total | 4,808 | 4,808 | 5,730
Shortraker rockfish ¹¹ | W | 134 | 134 | n/a
| C | 325 | 325 | n/a
| E | 455 | 455 | n/a
| Total | 914 | 914 | 1,219
Other rockfish 9 12 | W | 212 | 212 | n/a
| C | 507 | 507 | n/a
| WYK | 273 | 273 | n/a
| SEO | 2,757 | 200 | n/a
| Total | 3,749 | 1,192 | 4,881
Pelagic shelf rockfish ¹³ | W | 607 | 607 | n/a
| C | 3,035 | 3,035 | n/a
| WYK | 405 | 405 | n/a
| SEO | 680 | 680 | n/a
| Total | 4,727 | 4,727 | 5,739
Rougheye and Blackspotted rockfish ¹⁰ | W | 81 | 81 | n/a
| C | 869 | 869 | n/a
| E | 363 | 363 | n/a
| Total | 1,313 | 1,313 | 1,581
Demersal shelf rockfish ¹⁴ | SEO | 295 | 295 | 472
Thornyhead rockfish | W | 425 | 425 | n/a
| C | 637 | 637 | n/a
| E | 708 | 708 | n/a
| Total | 1,770 | 1,770 | 2,360
Atka mackerel | GW | 4,700 | 2,000 | 6,200
Big skate ¹⁵ | W | 598 | 598 | n/a
| C | 2,049 | 2,049 | n/a
| E | 681 | 681 | n/a
| Total | 3,328 | 3,328 | 4,438
Longnose skate ¹⁶ | W | 81 | 81 | n/a
| C | 2,009 | 2,009 | n/a
| E | 762 | 762 | n/a
| Total | 2,852 | 2,852 | 3,803
Other skates ¹⁷ | GW | 2,093 | 2,093 | 2,791
Sharks | GW | 957 | 957 | 1,276
Squids | GW | 1,148 | 1,148 | 1,530
Octopuses | GW | 224 | 224 | 298
Sculpins | GW | 4,746 | 4,746 | 6,328
Total |  | 605,086 | 330,746 | 743,559
¹ Regulatory areas and districts are defined at § 679.2. (W=Western Gulf of Alaska; C=Central Gulf of Alaska; E=Eastern Gulf of Alaska; WYK=West Yakutat District; SEO=Southeast Outside District; GW=Gulf-wide).
² Pollock is apportioned in the Western/Central Regulatory Areas among three statistical areas. During the A season, the apportionment is based on an adjusted estimate of the relative distribution of pollock biomass of approximately 30%, 46%, and 24% in Statistical Areas 610, 620, and 630, respectively. During the B season, the apportionment is based on the relative distribution of pollock biomass at 30%, 54%, and 16% in Statistical Areas 610, 620, and 630, respectively. During the C and D seasons, the apportionment is based on the relative distribution of pollock biomass at 41%, 27%, and 32% in Statistical Areas 610, 620, and 630, respectively. Table 4 lists the proposed 2011 and 2012 pollock seasonal apportionments. In the West Yakutat and Southeast Outside Districts of the Eastern Regulatory Area, pollock is not divided into seasonal allowances.
³ The annual Pacific cod TAC is apportioned 60% to the A season and 40% to the B season in the Western and Central Regulatory Areas of the GOA. Pacific cod is allocated 90% for processing by the inshore component and 10% for processing by the offshore component. Table 5 lists the proposed 2011 and 2012 Pacific cod seasonal apportionments.
⁴ Sablefish is allocated to trawl and hook-and-line gears for 2011 and to trawl gear in 2012. Tables 2 and 3 list the proposed 2011 and 2012 sablefish TACs.
⁵ “Deep-water flatfish” means Dover sole, Greenland turbot, and deepsea sole.
⁶ “Shallow-water flatfish” means flatfish not including “deep-water flatfish,” flathead sole, rex sole, or arrowtooth flounder.
⁷ “Pacific ocean perch” means Sebastes alutus.
⁸ “Northern rockfish” means Sebastes polyspinous. For management purposes the 2 mt apportionment of ABC to the Eastern Gulf of Alaska has been included in the slope rockfish complex.
⁹ “Slope rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), and S. reedi (yellowmouth). In the Eastern GOA only, slope rockfish also includes northern rockfish, S. polyspinous.
¹⁰ “Rougheye rockfish” means Sebastes aleutianus (rougheye) and Sebastes melanostictus (blackspotted).
¹¹ “Shortraker rockfish” means Sebastes borealis.
¹² “Other rockfish” in the Western and Central Regulatory Areas and in the West Yakutat District means slope rockfish and demersal shelf rockfish. The category “other rockfish” in the SEO District means slope rockfish.
¹³ “Pelagic shelf rockfish” means, S. variabilis (dusky), S. entomelas (widow), and S. flavidus (yellowtail).
¹⁴ “Demersal shelf rockfish” means Sebastes pinniger (canary), S. nebulosus (china), S. caurinus (copper), S. maliger (quillback), S. helvomaculatus (rosethorn), S. nigrocinctus (tiger), and S. ruberrimus (yelloweye).
¹⁵ “Big skate” means Raja binoculata.
¹⁶ “Longnose skate” means Raja rhina.
¹⁷ “Other skates” means Bathyraja spp.

Proposed Apportionment of Reserves

Section 679.20(b)(2) requires that 20 percent of each TAC for pollock, Pacific cod, flatfish, skates, sharks, squids, sculpins, and octopuses be set aside in reserves for possible apportionment at a later date during the fishing year. In 2010, NMFS apportioned all of the reserves in the final harvest specifications. For 2011 and 2012, NMFS proposes reapportionment of all the reserves for pollock, Pacific cod, flatfish, skates, sharks, squids, sculpins, and octopuses. Table 1 reflects the apportionment of reserve amounts for these species and species groups. Each proposed TAC for the above mentioned species categories contains the full TAC recommended by the Council, since no reserve was created from the relevant species categories.

Proposed Allocations of the Sablefish TAC Amounts to Vessels Using Hook-and-Line and Trawl Gear

Section 679.20(a)(4)(i) and (ii) require allocations of sablefish TACs for each of the regulatory areas and districts to hook-and-line and trawl gear. In the Western and Central Regulatory Areas, 80 percent of each TAC is allocated to hook-and-line gear, and 20 percent of each TAC is allocated to trawl gear. In the Eastern Regulatory Area, 95 percent of the TAC is allocated to hook-and-line gear and five percent is allocated to trawl gear. The trawl gear allocation in the Eastern GOA may only be used to support incidental catch of sablefish in directed fisheries for other target species (§ 679.20(a)(4)(i)). In recognition of the trawl ban in the SEO District of the Eastern Regulatory Area, the Council recommended and NMFS proposes the allocation of five percent of the combined Eastern Regulatory Area sablefish TAC to trawl gear in the WYK District and the remainder of the WYK sablefish TAC be available to vessels using hook-and-line gear. As a result, NMFS proposes to allocate 100 percent of the sablefish TAC in the SEO District to vessels using hook-and-line gear. This recommendation results in a proposed 2011 allocation of 189 mt to trawl gear and 3,581 mt to hook-and-line gear in the Eastern GOA. Table 2 lists the allocations of the proposed 2011 sablefish TACs to hook-and-line and trawl gear. Table 3 lists the allocations of the proposed 2012 sablefish TACs to trawl gear.

The Council recommended that the hook-and-line sablefish TAC be established annually to ensure that the Individual Fishery Quota (IFQ) fishery is conducted concurrent with the halibut IFQ fishery and is based on the most recent survey information. The Council also recommended that only a trawl sablefish TAC be established for two years so that retention of incidental catch of sablefish by trawl gear could commence in January in the second year of the groundfish harvest specifications. However, since there is an annual assessment for sablefish and the final harvest specifications are expected to be published before the IFQ season begins (typically, in early March), the Council recommended that the sablefish TAC be set on an annual basis so that the best and most recent scientific information could be considered in recommending the ABCs and TACs. Since sablefish is on bycatch status for trawl gear during the entire fishing year, and given that fishing for groundfish with trawl gear is prohibited prior to January 20, it is not likely that the sablefish allocation to trawl gear would be reached before the effective date of the final harvest specifications.

Table 2—Proposed 2011 Sablefish TAC Amounts in the Gulf of Alaska and Allocations to Hook-and-Line and Trawl Gear
[Values are rounded to the nearest metric ton]
Area/district | TAC | Hook-and-line allocation | Trawl allocation
Western | 1,488 | 1,190 | 298
Central | 4,042 | 3,234 | 808
West Yakutat ¹ | 1,450 | 1,261 | 189
Southeast Outside | 2,320 | 2,320 | 0
Total | 9,300 | 8,005 | 1,295
¹ Represents an allocation of 5 percent of the combined Eastern Regulatory Area sablefish TAC to trawl gear in the WYK District.

Table 3—Proposed 2012 Sablefish TAC Amounts in the Gulf of Alaska and Allocation to Trawl Gear ¹
[Values are rounded to the nearest metric ton]
Area/district | TAC | Hook-and-line allocation | Trawl allocation
Western | 1,488 | n/a | 298
Central | 4,042 | n/a | 808
West Yakutat ² | 1,450 | n/a | 189
Southeast Outside | 2,320 | n/a | 0
Total | 9,300 | n/a | 1,295
¹ The Council recommended that harvest specifications for the hook-and-line gear sablefish Individual Fishing Quota fisheries be limited to 1 year.
² Represents an allocation of 5 percent of the combined Eastern Regulatory Area sablefish TAC to trawl gear in the WYK District.

Proposed Apportionments of Pollock TAC Among Seasons and Regulatory Areas, and Allocations for Processing by Inshore and Offshore Components

In the GOA, pollock is apportioned by season and area, and is further allocated between inshore and offshore processing components. Pursuant to § 679.20(a)(5)(iv)(B), the annual pollock TAC specified for the Western and Central Regulatory Areas of the GOA is apportioned into four equal seasonal allowances of 25 percent. As established by § 679.23(d)(2)(i) through (iv), the A, B, C, and D season allowances are available from January 20 through March 10, March 10 through May 31, August 25 through October 1, and October 1 through November 1, respectively.

Pollock TACs in the Western and Central Regulatory Areas of the GOA are apportioned among Statistical Areas 610, 620, and 630, pursuant to § 679.20(a)(5)(iv)(A). In the A and B seasons, the apportionments are in proportion to the distribution of pollock biomass based on the four most recent NMFS winter surveys. In the C and D seasons, the apportionments are in proportion to the distribution of pollock biomass based on the four most recent NMFS summer surveys. For 2011 and 2012, the Council recommends, and NMFS proposes, averaging the winter and summer distribution of pollock in the Central Regulatory Area for the A season. The average is intended to reflect the distribution of pollock and the performance of the fishery in the area during the A season for the 2011 and 2012 fishing years. Within any fishing year, the amount by which a seasonal allowance is underharvested or overharvested may be added to, or subtracted from, subsequent seasonal allowances in a manner to be determined by the Regional Administrator (§ 679.20(a)(5)(iv)(B)). The rollover amount is limited to 20 percent of the unharvested seasonal apportionment for the statistical area. Any unharvested pollock above the 20 percent limit could be further distributed to the other statistical areas, in proportion to the estimated biomass in the subsequent season in those statistical areas (§ 679.20(a)(5)(iv)(B)). The proposed pollock TACs in the WYK District of 2,686 mt and SEO District of 9,245 mt for 2011 and 2012 are not allocated by season.

Section 679.20(a)(6)(i) requires the allocation of 100 percent of the pollock TAC in all regulatory areas and all seasonal allowances to vessels catching pollock for processing by the inshore component after subtraction of amounts that are projected by the Regional Administrator to be caught by, or delivered to, the offshore component incidental to directed fishing for other groundfish species. Thus, the amount of pollock available for harvest by vessels harvesting pollock for processing by the offshore component is that amount that will be taken as incidental catch during directed fishing for groundfish species other than pollock, up to the maximum retainable amounts allowed under § 679.20(e) and (f). At this time, these incidental catch amounts of pollock are unknown and will be determined during the fishing year.

Table 4 lists the proposed 2011 and 2012 seasonal biomass distribution of pollock in the Western and Central Regulatory Areas, area apportionments, and seasonal allowances. The amounts of pollock for processing by the inshore and offshore components are not shown.

Table 4—Proposed 2011 and 2012 Distribution of Pollock in the Central and Western Regulatory Areas of the Gulf of Alaska; Seasonal Biomass Distribution, Area Apportionments; and Seasonal Allowances of Annual TAC
[Values are rounded to the nearest metric ton]
Season ¹ | Shumagin |  | Chirikof |  | Kodiak |  | Total ²
| (Area 610) |  | (Area 620) |  | (Area 630)
A (Jan 20-Mar 10) | 7,342 | (30.22%) | 11,129 | (45.81%) | 5,823 | (23.97%) | 24,294 (100%)
B (Mar 10-May 31) | 7,342 | (30.22%) | 13,128 | (54.04%) | 3,824 | (15.74%) | 24,294 (100%)
C (Aug 25-Oct 1) | 10,022 | (41.25%) | 6,451 | (26.55%) | 7,820 | (32.19%) | 24,293 (100%)
D (Oct 1-Nov1) | 10,022 | (41.25%) | 6,451 | (26.55%) | 7,820 | (32.19%) | 24,293 (100%)
Annual Total | 34,728 |  | 37,159 |  | 25,287 |  | 97,174
¹ As established by § 679.23(d)(2)(i) through (iv), the A, B, C, and D season allowances are available from January 20 to March 10, March 10 to May 31, August 25 to October 1, and October 1 to November 1, respectively. The amounts of pollock for processing by the inshore and offshore components are not shown in this table.
² The WYK and SEO District pollock TACs are not allocated by season and are not included in the total pollock TACs shown in this table.

Proposed Seasonal Apportionments of Pacific Cod TAC and Allocations for Processing of Pacific Cod TAC Between Inshore and Offshore Components

Pacific cod fishing is divided into two seasons in the Western and Central Regulatory Areas of the GOA. For hook-and-line, pot, and jig gear, the A season is January 1 through June 10, and the B season is September 1 through December 31. For trawl gear, the A season is January 20 through June 10, and the B season is September 1 through November 1 (§ 679.23(d)(3)(i)). After subtraction of incidental catch from the A season, 60 percent of the annual TAC will be available as a DFA during the A season for the inshore and offshore components. The remaining 40 percent of the annual TAC will be available for harvest during the B season. Under § 679.20(a)(12)(ii), any overage or underage of the Pacific cod allowance from the A season will be subtracted from, or added to, the subsequent B season allowance.

Section 679.20(a)(6)(ii) requires the allocation of the TAC apportionment of Pacific cod in all regulatory areas to vessels catching Pacific cod for processing by the inshore and offshore components. Ninety percent of the Pacific cod TAC in each regulatory area is allocated to vessels catching Pacific cod for processing by the inshore component. The remaining 10 percent of the TAC is allocated to vessels catching Pacific cod for processing by the offshore component. Table 5 lists the seasonal apportionments and allocations of the proposed 2011 and 2012 Pacific cod TAC amounts.

Table 5—Proposed 2011 and 2012 Seasonal Apportionments and Allocations of Pacific Cod TAC Amounts in the Gulf of Alaska and Allocations for Processing by the Inshore and Offshore Components
[Values are rounded to the nearest metric ton]
Regulatory area | Season | TAC | Component allocation: Inshore (90%) | Component allocation: Offshore (10%)
Western | Annual | 25,699 | 23,129 | 2,570
| A season (60%) | 15,419 | 13,877 | 1,542
| B season (40%) | 10,280 | 9,252 | 1,028
Central | Annual | 45,524 | 40,972 | 4,552
| A season (60%) | 27,314 | 24,583 | 2,731
| B season (40%) | 18,210 | 16,389 | 1,821
Eastern | Annual | 2,203 | 1,983 | 220
Total |  | 73,426 | 66,084 | 7,342

Proposed Apportionments to the Central GOA Rockfish Pilot Program

Section 679.81(a)(1) and (2) requires the allocation of the primary rockfish species TACs in the Central Regulatory Area, after deducting incidental catch needs in other directed groundfish fisheries, to participants in the Central GOA Rockfish Program (Rockfish Program). Five percent (2.5 percent to trawl gear and 2.5 percent to fixed gear) of the proposed TACs for Pacific ocean perch, northern rockfish, and pelagic shelf rockfish in the Central Regulatory Area are allocated to the entry level rockfish fishery; and the remaining 95 percent are allocated to those vessels eligible to participate in the Rockfish Program. The Rockfish Program will expire in December 2011, although the Council has proposed a new program to supersede the existing Rockfish Program by 2012. NMFS is developing a proposed rule to implement the Council's revised program and anticipates that it will be published in the Federal Register for public review and comment early in 2011.

NMFS proposes setting aside 2011 incidental catch amounts of 100 mt for northern rockfish, 100 mt for pelagic shelf rockfish, and 500 mt for Pacific ocean perch for other directed groundfish fisheries in the Central Regulatory Area. These proposed amounts are based on recent average incidental catch in the Central Regulatory Area by other groundfish fisheries.

Section 679.83(a)(1)(i) requires that allocations to the trawl entry level fishery must be made first from the allocation of Pacific ocean perch available to the rockfish entry level fishery. If the amount of Pacific ocean perch available for allocation is less than the total allocation allowable for trawl CVs in the rockfish entry level fishery, then northern rockfish and pelagic shelf rockfish must be allocated to trawl CVs. Allocations of Pacific ocean perch, northern rockfish, and pelagic shelf rockfish to longline gear vessels must be made after the allocations to trawl gear.

Table 6 lists the proposed 2011 allocations of rockfish in the Central GOA to trawl and longline gear in the entry level rockfish fishery. Allocations of primary rockfish species TACs among participants in the Rockfish Program are not included in the proposed harvest specifications because applications for C/P and CV cooperatives are due to NMFS on March 1 of each calendar year, thereby preventing NMFS from calculating proposed 2011 allocations. NMFS will post these allocations on the Alaska Region Web site at http://alaskafisheries.noaa.gov/sustainablefisheries/goarat/default.htm when they become available in March 2011.

Table 6—Proposed 2011 Allocations of Rockfish in the Central Gulf of Alaska to Trawl and Longline Gear¹ in the Entry Level Rockfish Fishery
[Values are rounded to the nearest mt]
Species | Proposed TAC | Incidental catch allowance | TAC minus ICA | 5% TAC | 2.5% TAC | Entry level trawl allocation | Entry level longline allocation
Pacific ocean perch | 10,377 | 500 | 9,877 | 494 | 247 | 375 | 119
Northern rockfish | 2,259 | 100 | 2,159 | 108 | 54 | 0 | 108
Pelagic shelf rockfish | 3,035 | 100 | 2,935 | 147 | 74 | 0 | 147
Total | 15,671 | 700 | 14,971 | 749 | 375 | 375 | 374
¹ Longline gear includes jig and hook-and-line gear.

Proposed Halibut Prohibited Species Catch (PSC) Limits

Section 679.21(d) establishes annual halibut PSC limit apportionments to trawl and hook-and-line gear, and permits the establishment of apportionments for pot gear. In October 2010, the Council recommended that NMFS maintain the 2010 halibut PSC limits of 2,000 mt for the trawl fisheries and 300 mt for the hook-and-line fisheries. The Alaska Department of Fish and Game sets the GHL after estimates of incidental catch in all fisheries (including halibut and subsistence) and allocation to the sport fish fishery have been deducted.

Ten mt of the hook-and-line limit is further allocated to the demersal shelf rockfish (DSR) fishery in the SEO District. The DSR fishery is defined at § 679.21(d)(4)(iii)(A). This fishery has been apportioned 10 mt in recognition of its small scale harvests. Most vessels in the DSR fishery are less than 60 ft (18.3 m) length overall and are exempt from observer coverage. Therefore, observer data are not available to verify actual bycatch amounts. NMFS estimates low halibut bycatch in the DSR fishery because: the duration of the DSR fisheries and the gear soak times are short; the DSR fishery occurs in the winter when less overlap occurs in the distribution of DSR and halibut; and, the directed commercial DSR fishery has a low DSR TAC. Of the 295 mt TAC for DSR in 2010, 100 mt were available for the directed commercial fishery, of which 30 mt were harvested.

The FMP authorizes the Council to exempt specific gear from the halibut PSC limit. NMFS, after consultation with the Council, proposes to exempt pot gear, jig gear, and the sablefish IFQ hook-and-line gear fishery categories from the non-trawl halibut PSC limit for 2011 and 2012. The Council recommended and NMFS is proposing these exemptions because (1) the pot gear fisheries have low annual halibut bycatch mortality (averaging 18 mt annually from 2001 through 2009); (2) the IFQ program regulations prohibit discard of halibut if any halibut IFQ permit holder on board a CV holds unused halibut IFQ (§ 679.7(f)(11)); (3) Sablefish IFQ fishermen typically hold halibut IFQ permits and are therefore required to retain the halibut they catch while fishing sablefish IFQ; and (4) NMFS estimates negligible halibut mortality for the jig gear fisheries. Halibut mortality is assumed to be negligible in the jig gear fisheries given the small amount of groundfish harvested by jig gear (averaging 261 mt annually from 2001 through 2009), the selective nature of jig gear, and the high survival rates of halibut caught and released with jig gear.

Section 679.21(d)(5) authorizes NMFS to seasonally apportion the halibut PSC limits after consultation with the Council. The FMP and regulations require that the Council and NMFS consider the following information in seasonally apportioning halibut PSC limits: (1) Seasonal distribution of halibut; (2) seasonal distribution of target groundfish species relative to halibut distribution; (3) expected halibut bycatch needs on a seasonal basis relative to changes in halibut biomass and expected catch of target groundfish species; (4) expected bycatch rates on a seasonal basis; (5) expected changes in directed groundfish fishing seasons; (6) expected actual start of fishing effort; and (7) economic effects of establishing seasonal halibut allocations on segments of the target groundfish industry.

The final 2010 and 2011 harvest specifications for halibut PSC (75 FR 11749, March 12, 2010) summarized the Council's and NMFS' findings with respect to each of these FMP considerations. The Council's and NMFS' findings for 2011 and 2012 are unchanged from 2010. Table 7 lists the proposed 2011 and 2012 Pacific halibut PSC limits, allowances, and apportionments. Section 679.21(d)(5)(iii) and (iv), respectively, specify that any underages or overages of a seasonal apportionment of a PSC limit will be added to, or removed from, the next respective seasonal apportionment within the fishing year.

Table 7—Proposed 2011 and 2012 Pacific Halibut PSC Limits, Allowances, and Apportionments
[Values are in metric tons]
Trawl gear: Season | Trawl gear: Percent | Trawl gear: Amount | Hook-and-line gear ¹: Other than DSR: Season | Hook-and-line gear ¹: Other than DSR: Percent | Hook-and-line gear ¹: Other than DSR: Amount | Hook-and-line gear ¹: DSR: Season | Hook-and-line gear ¹: DSR: Amount
January 20-April 1 | 27.5 | 550 | January 1-June 10 | 86 | 250 | January 1-December 31 | 10
April 1-July 1 | 20 | 400 | June 10-September 1 | 2 | 5
July 1-September 1 | 30 | 600 | September 1-December 31 | 12 | 35
September 1-October 1 | 7.5 | 150
October 1-December 31 | 15 | 300
Total |  | 2,000 |  |  | 290 |  | 10
¹ The Pacific halibut PSC limit for hook-and-line gear is allocated to the demersal shelf rockfish (DSR) fishery and fisheries other than DSR. The hook-and-line IFQ sablefish fishery is exempt from halibut PSC limits, as are pot and jig gear fisheries for all groundfish species.

Section 679.21(d)(3)(ii) authorizes further apportionment of the trawl halibut PSC limit to trawl fishery categories. The annual apportionments are based on each category's proportional share of the anticipated halibut bycatch mortality during a fishing year and optimization of the total amount of groundfish harvest under the halibut PSC limit. The fishery categories for the trawl halibut PSC limits are (1) a deep-water species category, composed of sablefish, rockfish, deep-water flatfish, rex sole, and arrowtooth flounder; and (2) a shallow-water species category, comprised of pollock, Pacific cod, shallow-water flatfish, flathead sole, Atka mackerel, skates, sharks, squids, sculpins, and octopuses (§ 679.21(d)(3)(iii)). Table 8 lists the proposed 2011 and 2012 seasonal apportionments of Pacific halibut PSC trawl limits between the deep-water and the shallow-water species categories. Based on public comment and information contained in the final 2010 SAFE report, the Council may recommend or NMFS may make changes to the seasonal, gear-type, or fishery category apportionments of halibut PSC limits for the final 2011 and 2012 harvest specifications.

Table 8—Proposed 2011 and 2012 Seasonal Apportionments of the Pacific Halibut PSC Limit Apportioned Between the Trawl Gear Shallow-Water Species and Deep-Water Species Categories
[Values are in metric tons]
Season | Shallow-water | Deep-water ¹ | Total
January 20-April 1 | 450 | 100 | 550
April 1-July 1 | 100 | 300 | 400
July 1-September 1 | 200 | 400 | 600
September 1-October 1 | 150 | Any remainder | 150
Subtotal January 20-October 1 | 900 | 800 | 1,700
October 1-December 31 ² |  |  | 300
Total |  |  | 2,000
¹ Vessels participating in cooperatives in the Central Gulf of Alaska Rockfish Program will receive a portion of the third season (July 1-September 1) deep-water category halibut PSC apportionment. At this time, this amount is not known but will be posted later on the Alaska Region Web site at http://alaskafisheries.noaa.gov when it becomes available.
² There is no apportionment between shallow-water and deep-water trawl fishery categories during the fifth season (October 1 through December 31).

Estimated Halibut Bycatch in Prior Years

The best available information on estimated halibut bycatch is data collected by observers during 2010. The calculated halibut bycatch mortality by trawl, hook-and-line, and pot gears through October 2, 2010, is 1,276 mt, 214 mt, and 26 mt, respectively, for a total halibut mortality of 1,516 mt. This mortality was calculated using groundfish and halibut catch data from the NMFS Alaska Region's catch accounting system. This system contains historical and recent catch information compiled from each Alaska groundfish fishery.

Halibut bycatch restrictions seasonally constrained trawl gear fisheries during the 2010 fishing year. Table 9 displays the closure dates for fisheries that resulted from the attainment of seasonal or annual halibut PSC limits. NMFS does not know the amount of groundfish that trawl gear might have harvested if halibut PSC limits had not restricted some 2010 GOA groundfish fisheries.

Table 9—2010 Fishery Closures Due to Attainment of Pacific Halibut PSC Limits
Fishery category | Opening date | Closure date | Federal Register citation
Trawl Deep-water, season 2 | January 20, 2010 | April 28, 2010 | 75 FR 23189, May 3, 2010.
Trawl Shallow-water,season 4 ¹ | September 1, 2010 | September 3, 2010 | 75 FR 54290, September 7, 2010.
Trawl, Shallow-water,season 4 | September 11, 2010 | Unknown | 75 FR 56017, September 15, 2010.
Hook-and-line gear, all targets ² | January 1, 2010 | Unknown
¹ With the exception of vessels participating in the Central GOA Rockfish Program.
² With the exception of sablefish, open March 6, 2010, through November 15, 2010.

Comparison of Final 2010 ABC Amounts With Proposed 2011 and 2012 ABC Amounts

Proposed 2011 and 2012 ABCs for pollock, Pacific cod, deep-water flatfish, rougheye rockfish, and flathead sole are higher than the final specifications established for 2010, while the proposed 2011 and 2012 ABCs for sablefish, rex sole, Pacific ocean perch, northern rockfish, and pelagic shelf rockfish are lower than those established for 2010. These differences reflect the stock projections and trends made for these species during the final GOA groundfish harvest specifications process in November 2009. For the remaining target species, the Council recommended and NMFS proposes ABC levels that are unchanged from 2010. As previously described, the “other species” category has been dissolved into its component species categories (sharks, octopuses, squids, and sculpins). The Council recommended individual TAC limits for each of these new categories for 2011 and 2012. More information on these changes is included in the final 2009 SAFE report (see ADDRESSES) and will be updated with the 2010 SAFE report, which will be available for Council approval at its December 2010 meeting.

In the GOA, the total proposed 2011 and 2012 TAC amounts are 330,746 mt, an increase of 13 percent from the 2010 TAC total of 292,087 mt. Table 10 compares the final 2010 TACs to the proposed 2011 and 2012 TACs.

Table 10—Comparison of Final 2010 and Proposed 2011 and 2012 Total Allowable Catch (TAC) Amounts in the Gulf of Alaska
[Values are in metric tons]
Species | Final 2010 TACs | Proposed 2011 and 2012 TACS
Pollock | 84,745 | 109,105
Pacific cod | 59,563 | 73,426
Sablefish | 10,370 | 9,300
Shallow water flatfish | 20,062 | 20,062
Deep-water flatfish | 6,190 | 6,325
Rex sole | 9,729 | 9,592
Arrowtooth flounder | 43,000 | 43,000
Flathead sole | 10,411 | 10,576
Pacific ocean perch | 17,584 | 16,993
Northern rockfish | 5,098 | 4,808
Rougheye rockfish | 1,302 | 1,313
Shortraker rockfish | 914 | 914
Other rockfish | 1,192 | 1,192
Pelagic shelf rockfish | 5,059 | 4,727
Demersal shelf rockfish | 295 | 295
Thornyhead rockfish | 1,770 | 1,770
Atka mackerel | 2,000 | 2,000
Big skates | 3,328 | 3,328
Longnose skates | 2,852 | 2,852
Other skates | 2,093 | 2,093
Other species ¹ | 4,500 | n/a
Sharks | n/a | 957
Squids | n/a | 1,148
Octopuses | n/a | 224
Sculpins | n/a | 4,746
Total | 292,087 | 330,746
¹ The other species category, for the purpose of the annual harvest specifications, was dissolved in 2010 into its major taxonomic components; sharks, squid, octopuses, and sculpins (75 FR 61639, October 6, 2010).

Current Estimates of Halibut Biomass and Stock Condition

The most recent halibut stock assessment was developed by the IPHC staff in December 2009 for the 2010 commercial fishery; this assessment was considered by the IPHC at its annual January 2010 meeting. Since 2006, the IPHC stock assessment has been fitted to a coastwide data set (including the United States and Canada) to estimate total exploitable biomass. Coastwide exploitable biomass at the beginning of 2010 is estimated to be 334 million pounds. The assessment revised last year's estimate of 325 million pounds at the start of 2009 downwards to 291 million pounds and projects an increase of 14 percent over that value to arrive at the 2010 value of 334 million pounds. At least part, if not most, of the downward revision for 2009 is believed to be caused by the ongoing decline in size and age, which continues for all ages in all areas. Projections based on the currently estimated age compositions suggest that the exploitable and female spawning biomasses will continue to increase over the next several years as a sequence of strong year classes recruit to the legal-sized component of the population. The coastwide exploitable biomass was apportioned among regulatory areas in accordance with survey estimates of relative abundance and other considerations. The assessment recommends a coastwide harvest rate of 20 percent of the exploitable biomass overall, but a lower harvest rate of 15 percent for Areas 4A, 4B, 4C, 4D, and 4E and 3B.

The halibut resource is fully utilized. Recent catches, over the last 16 years (1994-2009) in the commercial halibut fisheries in Alaska, have averaged 32,850 mt round weight. In January 2010, the IPHC recommended Alaska commercial catch limits totaling 24,372 mt round weight for 2010, a 7.5 percent decrease from 26,338 mt in 2009. Through November 15, 2010, commercial hook-and-line harvests of halibut off Alaska totaled 25,286 mt round weight.

Additional information on the Pacific halibut stock assessment may be found in the IPHC's 2009 Pacific halibut stock assessment (December 2009), available on the IPHC Web site at http://www.iphc.washington.edu. The IPHC will consider the 2010 Pacific halibut assessment for 2011 at its January 2011 annual meeting when it will set the 2011 commercial halibut fishery catch limits.

Other Factors

The IPHC will adjust the allowable commercial catch of halibut to account for the overall halibut PSC limit established for groundfish fisheries. The 2011 and 2012 groundfish fisheries are expected to use the entire proposed annual halibut PSC limit of 2,300 mt. The allowable directed commercial catch is determined by first accounting for recreational and subsistence catch, waste, and bycatch mortality, and then provides the remainder to the directed fishery. Groundfish fishing is not expected to affect adversely the halibut stocks. Methods available for reducing halibut bycatch include (1) consistent monitoring through publication of individual vessel bycatch rates on the NMFS Alaska Region Web site at http://alaskafisheries.noaa.gov, (2) modifications to gear, (3) changes in groundfish fishing seasons, (4) individual transferable quota programs, and (5) time/area closures.

With respect to fishing gear modifications, various regulations have been implemented to address halibut bycatch concerns that are associated with different gear types. The definitions of the various gear types defined at § 679.2 under “Authorized fishing gear” delineate a variety of different requirements and restrictions by gear type. Many of these requirements are intended to decrease or minimize halibut bycatch by pot, trawl, and hook-and-line gear types.

For example, groundfish pots must be constructed with biodegradable panels and tunnel openings in order to reduce halibut bycatch, thereby reducing halibut mortality in the groundfish pot fisheries. Further, the definition of “pelagic trawl gear” includes specific construction parameters and performance characteristics that distinguish it from nonpelagic trawl gear, which is designed for use in proximity to the seafloor. Because halibut bycatch by pelagic trawl gear is minimal, directed fishing for pollock with pelagic gear may continue even when the halibut PSC limit for the shallow-water species complex is reached (see § 679.7(d)(7)(i)). Finally, all hook-and-line vessel operators are required to employ careful release measures when handling halibut bycatch (§ 679.7(a)(13)). These measures are intended to reduce handling mortality, thereby lowering overall halibut bycatch mortality in the groundfish fisheries, and to increase the amount of groundfish harvested under the available halibut mortality bycatch limits.

The FMP requires that the Council review recent halibut bycatch data and recommend proposed halibut PSC limits in conjunction with developing proposed groundfish harvest levels. NMFS and the Council will review the methods available for reducing halibut bycatch listed here to determine their effectiveness and will initiate changes, as necessary, in response to this review or to public testimony and comment. At its December 2010 meeting, the Council is scheduled to review a discussion paper on GOA halibut PSC and potentially consider alternatives for analysis that would change how GOA halibut PSC limits currently are established.

Halibut Discard Mortality Rates

To monitor halibut bycatch mortality allowances and apportionments, the Regional Administrator uses observed halibut bycatch rates, discard mortality rates (DMR), and estimates of groundfish catch to project when a fishery's halibut bycatch mortality allowance or seasonal apportionment is reached. The DMRs are based on the best information available, including information contained in the annual SAFE report.

NMFS proposes the Council's recommendation that the halibut DMRs developed and recommended by the International Pacific Halibut Commission (IPHC) for the 2010 GOA groundfish fisheries be used for monitoring the proposed 2011 and 2012 halibut bycatch mortality allowances (see Table 11). The IPHC developed the DMRs for the 2010 GOA groundfish fisheries using the 10-year mean DMRs for those fisheries. Long-term average DMRs were not available for some fisheries, so rates from the most recent years were used. For the squid, shark, sculpin, octopus, and skate fisheries, where insufficient mortality data are available, the mortality rate of halibut caught in the Pacific cod fishery for that gear type was recommended as a default rate. The IPHC will analyze observer data annually and recommend changes to the DMRs when a fishery DMR shows large variation from the mean. A discussion of the DMRs and their justification is presented in Appendix 2 to the 2009 SAFE report (see ADDRESSES). Table 11 lists the proposed 2011 and 2012 DMRs.

Table 11—Proposed 2011 and 2012 Halibut Discard Mortality Rates for Vessels Fishing in the Gulf of Alaska
[Values are percent of halibut assumed to be dead]
Gear | Target fishery | Mortality rate (%)
Hook-and-line | Other fisheries ¹ | 12
| Skates | 12
| Pacific cod | 12
| Rockfish | 9
Trawl | Arrowtooth flounder | 72
| Deep-water flatfish | 48
| Flathead sole | 65
| Non-pelagic pollock | 59
| Other fisheries | 62
| Pacific cod | 62
| Pelagic pollock | 76
| Rex sole | 64
| Rockfish | 67
| Sablefish | 65
| Shallow-water flatfish | 71
Pot | Other fisheries | 17
| Pacific cod | 17
¹ Other fisheries includes all gear types for Atka mackerel, sculpin, shark, skate, squids, octopuses, and hook-and-line sablefish.

American Fisheries Act (AFA) Catcher/Processor and Catcher Vessel Groundfish Sideboard Limits

Section 679.64 establishes groundfish harvesting and processing sideboard limits on AFA C/Ps and CVs in the GOA. These sideboard limits are necessary to protect the interests of fishermen and processors who do not directly benefit from the AFA from those fishermen and processors who receive exclusive harvesting and processing privileges under the AFA. Section 679.7(k)(1)(ii) prohibits listed AFA C/Ps from harvesting any species of fish in the GOA. Additionally, § 679.7(k)(1)(iv) prohibits listed AFA C/Ps from processing any pollock harvested in a directed pollock fishery in the GOA and any groundfish harvested in Statistical Area 630 of the GOA.

AFA CVs that are less than 125 ft (38.1 m) length overall, have annual landings of pollock in the Bering Sea and Aleutian Islands of less than 5,100 mt, and have made at least 40 landings of GOA groundfish from 1995 through 1997 are exempt from GOA sideboard limits under § 679.64(b)(2)(ii). Sideboard limits for non-exempt AFA CVs operating in the GOA are based on their traditional harvest levels of TAC in groundfish fisheries covered by the FMP. Section 679.64(b)(3)(iii) establishes the groundfish sideboard limitations in the GOA based on the retained catch of non-exempt AFA CVs of each sideboard species from 1995 through 1997 divided by the TAC for that species over the same period. Table 12 lists the proposed 2011 and 2012 groundfish sideboard limits for non-exempt AFA CVs. NMFS will deduct all targeted or incidental catch of sideboard species made by non-exempt AFA CVs from the sideboard limits listed in Table 12.

Table 12—Proposed 2011 and 2012 GOA Non-Exempt American Fisheries Act Catcher Vessel (CV) Groundfish Harvest Sideboard Limits
[Values are rounded to the nearest metric ton]
Species | Apportionments by season/gear | Area/component | Ratio of 1995-1997 non-exempt AFA CV catch to 1995-1997 TAC | Proposed 2011 and 2012 TACs | Proposed 2011 and 2012 non-exempt AFA CV sideboard limit
Pollock | A Season | Shumagin (610) | 0.6047 | 7,342 | 4,440
| January 20-March 10 | Chirikof (620) | 0.1167 | 11,129 | 1,299
|  | Kodiak (630) | 0.2028 | 5,823 | 1,181
| B Season | Shumagin (610) | 0.6047 | 7,342 | 4,440
| March 10-May 31 | Chirikof (620) | 0.1167 | 13,128 | 1,532
|  | Kodiak (630) | 0.2028 | 3,824 | 776
| C Season | Shumagin (610) | 0.6047 | 10,022 | 6,060
| August 25-October 1 | Chirikof (620) | 0.1167 | 6,451 | 753
|  | Kodiak (630) | 0.2028 | 7,820 | 1,586
| D Season | Shumagin (610) | 0.6047 | 10,022 | 6,060
| October 1-November 1 | Chirikof (620) | 0.1167 | 6,451 | 753
|  | Kodiak (630) | 0.2028 | 7,820 | 1,586
| Annual | WYK (640) | 0.3495 | 2,686 | 939
|  | SEO (650) | 0.3495 | 9,245 | 3,231
Pacific cod | A Season ¹ | W inshore | 0.1365 | 13,877 | 1,894
| January 1-June 10 | W offshore | 0.1026 | 1,542 | 158
|  | C inshore | 0.0689 | 24,583 | 1,694
|  | C offshore | 0.0721 | 2,731 | 197
| B Season² | W inshore | 0.1365 | 9,252 | 1,263
| September 1-December 31 | W offshore | 0.1026 | 1,028 | 105
|  | C inshore | 0.0689 | 16,389 | 1,129
|  | C offshore | 0.0721 | 1,821 | 131
| Annual | E inshore | 0.0079 | 1,983 | 16
|  | E offshore | 0.0078 | 220 | 2
Sablefish | Annual, trawl gear | W | 0.0000 | 298 | 0
|  | C | 0.0642 | 808 | 52
|  | E | 0.0433 | 189 | 8
Flatfish, deep-water | Annual | W | 0.0000 | 530 | 0
|  | C | 0.0647 | 2,928 | 189
|  | E | 0.0128 | 2,867 | 37
Flatfish, shallow-water | Annual | W | 0.0156 | 4,500 | 70
|  | C | 0.0587 | 13,000 | 763
|  | E | 0.0126 | 2,562 | 32
Rex sole | Annual | W | 0.0007 | 1,521 | 1
|  | C | 0.0384 | 6,312 | 242
|  | E | 0.0029 | 1,759 | 5
Arrowtooth flounder | Annual | W | 0.0021 | 8,000 | 17
|  | C | 0.0280 | 30,000 | 840
|  | E | 0.0002 | 5,000 | 1
Flathead sole | Annual | W | 0.0036 | 2,000 | 7
|  | C | 0.0213 | 5,000 | 107
|  | E | 0.0009 | 3,576 | 3
Pacific ocean perch | Annual | W | 0.0023 | 2,797 | 6
|  | C | 0.0748 | 10,377 | 776
|  | E | 0.0466 | 3,819 | 178
Northern rockfish | Annual | W | 0.0003 | 2,549 | 1
|  | C | 0.0277 | 2,259 | 63
Rougheye rockfish | Annual | W | 0.0000 | 81 | 0
|  | C | 0.0237 | 869 | 21
|  | E | 0.0124 | 363 | 5
Shortraker rockfish | Annual | W | 0.0000 | 134 | 0
|  | C | 0.0218 | 325 | 7
|  | E | 0.0110 | 455 | 5
Other rockfish | Annual | W | 0.0034 | 212 | 1
|  | C | 0.1699 | 507 | 86
|  | E | 0.0000 | 473 | 0
Pelagic shelf rockfish | Annual | W | 0.0001 | 607 | 0
|  | C | 0.0000 | 3,035 | 0
|  | E | 0.0067 | 1,085 | 7
Demersal shelf rockfish | Annual | SEO | 0.0020 | 295 | 1
Thornyhead rockfish | Annual | W | 0.0280 | 425 | 12
|  | C | 0.0280 | 637 | 18
|  | E | 0.0280 | 708 | 20
Atka mackerel | Annual | Gulfwide | 0.0309 | 2,000 | 62
Big skates | Annual | W | 0.0063 | 598 | 4
|  | C | 0.0063 | 2,049 | 13
|  | E | 0.0063 | 681 | 4
Longnose skates | Annual | W | 0.0063 | 81 | 0
|  | C | 0.0063 | 2,009 | 13
|  | E | 0.0063 | 762 | 5
Other skates | Annual | Gulfwide | 0.0063 | 2,093 | 13
Sharks | Annual | Gulfwide | 0.0063 | 957 | 6
Squids | Annual | Gulfwide | 0.0063 | 1,148 | 7
Sculpin | Annual | Gulfwide | 0.0063 | 4,746 | 30
Octopuses | Annual | Gulfwide | 0.0063 | 224 | 1
¹ The Pacific cod A season for trawl gear does not open until January 20.
² The Pacific cod B season for trawl gear closes November 1.

Non-Exempt AFA Catcher Vessel Halibut PSC Limits

The halibut PSC sideboard limits for non-exempt AFA CVs in the GOA are based on the aggregate retained groundfish catch by non-exempt AFA CVs in each PSC target category from 1995 through 1997 divided by the retained catch of all vessels in that fishery from 1995 through 1997 (§ 679.64(b)(4)). Table 13 lists the proposed 2011 and 2012 non-exempt AFA CV halibut PSC limits for vessels using trawl gear in the GOA.

Table 13—Proposed 2011 and 2012 Non-Exempt American Fisheries Act Catcher Vessel Halibut Prohibited Species Catch (PSC) Limits for Vessels using Trawl Gear in the GOA
[Values are in metric tons]
Season | Season dates | Target fishery | Ratio of 1995-1997 non-exempt AFA CV retained catch to total retained catch | Proposed 2011 and 2012 PSC limit | Proposed 2011 and 2012 non-exempt AFA CV PSC limit
1 | January 20-April 1 | shallow-water | 0.340 | 450 | 153
|  | deep-water | 0.070 | 100 | 7
2 | April 1-July 1 | shallow-water | 0.340 | 100 | 34
|  | deep-water | 0.070 | 300 | 21
3 | July 1-September 1 | shallow-water | 0.340 | 200 | 68
|  | deep-water | 0.070 | 400 | 28
4 | September 1-October 1 | shallow-water | 0.340 | 150 | 51
|  | deep-water | 0.070 | 0 | 0
5 | October 1-December 31 | all targets | 0.205 | 300 | 62

Non-AFA Crab Vessel Groundfish Sideboard Limits

Section 680.22 establishes groundfish catch limits for vessels with a history of participation in the Bering Sea snow crab fishery to prevent these vessels from using the increased flexibility provided by the Crab Rationalization Program to expand their level of participation in the GOA groundfish fisheries. Sideboard limits restrict these vessels' catch to their collective historical landings in all GOA groundfish fisheries (except the fixed-gear sablefish fishery). Sideboard limits also apply to landings made using a License Limitation Program (LLP) license derived from the history of a restricted vessel, even if that LLP is used on another vessel.

Sideboard limits for non-AFA crab vessels operating in the GOA are based on their traditional harvest levels of TAC in groundfish fisheries covered by the FMP. Section 680.22(d) and (e) base the groundfish sideboard limits in the GOA on the retained catch by non-AFA crab vessels of each sideboard species from 1996 through 2000 divided by the total retained harvest of that species over the same period. Table 14 lists these proposed 2011 and 2012 groundfish sideboard limitations for non-AFA crab vessels. All targeted or incidental catch of sideboard species made by non-AFA crab vessels will be deducted from the sideboard limits in Table 14.

Vessels exempt from Pacific cod sideboards are those that landed less than 45,359 kilograms of Bering Sea snow crab and more than 500 mt of groundfish (in round weight equivalents) from the GOA between January 1, 1996, and December 31, 2000, and any vessel named on an LLP that was based in whole or in part on the fishing history of a vessel meeting the criteria in § 680.22(a)(3).

Table 14—Proposed 2011 and 2012 GOA Non-American Fisheries Act Crab Vessel Groundfish Harvest Sideboard Limits
[Values are rounded to the nearest metric ton]
Species | Season/gear | Area/component | Ratio of 1996-2000 non-AFA crab vessel catch to 1996-2000 total harvest | Proposed 2011 and 2012 TACs | Proposed 2011 and 2012 non-AFA crab vessel sideboard limit
Pollock | A Season January 20-March 10 | Shumagin (610) | 0.0098 | 7,342 | 72
|  | Chirikof (620) | 0.0031 | 11,129 | 34
|  | Kodiak (630) | 0.0002 | 5,823 | 1
| B Season March 10-May 31 | Shumagin (610) | 0.0098 | 7,342 | 72
|  | Chirikof (620) | 0.0031 | 13,128 | 41
|  | Kodiak (630) | 0.0002 | 3,824 | 1
| C Season August 25-October 1 | Shumagin (610) | 0.0098 | 10,022 | 98
|  | Chirikof (620) | 0.0031 | 6,451 | 20
|  | Kodiak (630) | 0.0002 | 7,820 | 2
| D Season October 1-November 1 | Shumagin (610) | 0.0098 | 10,022 | 98
|  | Chirikof (620) | 0.0031 | 6,451 | 20
|  | Kodiak (630) | 0.0002 | 7,820 | 2
| Annual | WYK (640) | 0.0000 | 2,686 | 0
|  | SEO (650) | 0.0000 | 9,245 | 0
Pacific cod | A Season¹ January 1-June 10 | W inshore | 0.0902 | 13,877 | 1,252
|  | W offshore | 0.2046 | 1,542 | 315
|  | C inshore | 0.0383 | 24,583 | 942
|  | C offshore | 0.2074 | 2,731 | 566
| B Season² September 1-December 31 | W inshore | 0.0902 | 9,252 | 835
|  | W offshore | 0.2046 | 1,028 | 210
|  | C inshore | 0.0383 | 16,389 | 628
|  | C offshore | 0.2074 | 1,821 | 378
| Annual | E inshore | 0.0110 | 1,983 | 22
|  | E offshore | 0.0000 | 220 | 0
Sablefish | Annual, trawl gear | W | 0.0000 | 298 | 0
|  | C | 0.0000 | 808 | 0
|  | E | 0.0000 | 188 | 0
Flatfish, deep-water | Annual | W | 0.0035 | 530 | 2
|  | C | 0.0000 | 2,928 | 0
|  | E | 0.0000 | 2,867 | 0
Flatfish, shallow-water | Annual | W | 0.0059 | 4,500 | 27
|  | C | 0.0001 | 13,000 | 1
|  | E | 0.0000 | 2,562 | 0
Rex sole | Annual | W | 0.0000 | 1,521 | 0
|  | C | 0.0000 | 6,312 | 0
|  | E | 0.0000 | 1,759 | 0
Arrowtooth flounder | Annual | W | 0.0004 | 8,000 | 3
|  | C | 0.0001 | 30,000 | 3
|  | E | 0.0000 | 5,000 | 0
Flathead sole | Annual | W | 0.0002 | 2,000 | 0
|  | C | 0.0004 | 5,000 | 2
|  | E | 0.0000 | 3,576 | 0
Pacific ocean perch | Annual | W | 0.0000 | 2,797 | 0
|  | C | 0.0000 | 10,377 | 0
|  | E | 0.0000 | 3,819 | 0
Northern rockfish | Annual | W | 0.0005 | 2,549 | 1
|  | C | 0.0000 | 2,259 | 0
Rougheye rockfish | Annual | W | 0.0067 | 81 | 1
|  | C | 0.0047 | 869 | 4
|  | E | 0.0008 | 363 | 0
Shortraker rockfish | Annual | W | 0.0013 | 134 | 0
|  | C | 0.0012 | 325 | 0
|  | E | 0.0009 | 455 | 0
Other rockfish | Annual | W | 0.0035 | 212 | 1
|  | C | 0.0033 | 507 | 2
|  | E | 0.0000 | 473 | 0
Pelagic shelf rockfish | Annual | W | 0.0017 | 607 | 1
|  | C | 0.0000 | 3,035 | 0
|  | E | 0.0000 | 1,085 | 0
Demersal shelf rockfish | Annual | SEO | 0.0000 | 295 | 0
Thornyhead rockfish | Annual | W | 0.0047 | 425 | 2
|  | C | 0.0066 | 637 | 4
|  | E | 0.0045 | 708 | 3
Atka mackerel | Annual | Gulfwide | 0.0000 | 2,000 | 0
Big skate | Annual | W | 0.0392 | 598 | 23
|  | C | 0.0159 | 2,049 | 33
|  | E | 0.0000 | 681 | 0
Longnose skate | Annual | W | 0.0392 | 81 | 3
|  | C | 0.0159 | 2,009 | 32
|  | E | 0.0000 | 762 | 0
Other skates | Annual | Gulfwide | 0.0176 | 2,093 | 37
Sharks | Annual | Gulfwide | 0.0176 | 957 | 17
Squids | Annual | Gulfwide | 0.0176 | 1,148 | 20
Octopuses | Annual | Gulfwide | 0.0176 | 224 | 4
Sculpins | Annual | Gulfwide | 0.0176 | 4,746 | 84
¹ The Pacific cod A season for trawl gear does not open until January 20.
² The Pacific cod B season for trawl gear closes November 1.

Rockfish Program Groundfish Sideboard Limitations and Halibut Mortality Limitations

Section 679.82(d) establishes sideboards to limit the ability of participants eligible for the Rockfish Program to harvest fish in fisheries other than the Central GOA rockfish fisheries. The Rockfish Program provides harvesters with certain economic advantages, which could be used to increase their participation in other fisheries and possibly adversely affect the existing participants in those fisheries. Traditionally, the Central GOA rockfish fisheries opened in July. The sideboards are designed to restrict fishing during the historical season for the fishery, but allow eligible rockfish harvesters to participate in fisheries before or after the historical rockfish season.

The proposed sideboards for 2011 limit the total amount of catch that could be taken by eligible harvesters and limit the amount of halibut mortality to historic levels. The sideboard measures are in effect only during the month of July. Table 15 lists the proposed 2011 Rockfish Program harvest limits in the WYK District and the Western GOA. Table 16 lists the proposed 2011 Rockfish Program halibut mortality limits for C/Ps and CVs.

As discussed earlier in this preamble, the Rockfish Program will expire in December 2011. The Council has proposed a new, revised program and associated FMP amendment. NMFS is developing a rulemaking to implement the program, if approved by the Secretary. The proposed rule and, if approved, the final rule for the new Rockfish Program will include revised groundfish sideboards and halibut mortality limits for 2012. Because the current Rockfish Program expires at the end of 2011, these harvest specifications propose groundfish sideboards and halibut mortality limits only for 2011.

Table 15—Proposed 2011 Rockfish Program Harvest Limits by Sector for West Yakutat District and Western GOA by the Catcher/Processor (CP) and Catcher Vessel (CV) Sectors
[Values are rounded to the nearest metric ton]
Area | Fishery | CP sector (% of TAC) | CV sector (% of TAC) | Proposed 2011 and 2012 TACs | Proposed 2011 and 2012 CP limit | Proposed 2011 and 2012 CV limit
West Yakutat District | Pelagic shelf rockfish | 72.4 | 1.7 | 405 | 293 | 7
| Pacific ocean perch | 76.0 | 2.9 | 1,937 | 1,472 | 56
Western GOA | Pelagic shelf rockfish | 63.3 | 0 | 607 | 384 | 0
| Pacific ocean perch | 61.1 | 0 | 2,797 | 1,709 | 0
| Northern rockfish | 78.9 | 0 | 2,549 | 2,011 | 0

Table 16—Proposed 2011 Rockfish Program Halibut Mortality Limits for the Catcher/Processor and Catcher Vessel Sectors
[Values are rounded to the nearest metric ton]
Sector | Shallow-water complex halibut PSC sideboard ratio (percent) | Deep-water complex halibut PSC sideboard ratio (percent) | Annual halibut mortality limit (mt) | Annual shallow- water complex halibut PSC sideboard limit (mt) | Annual deep- water complex halibut PSC sideboard limit (mt)
Catcher/processor | 0.54 | 3.99 | 2,000 | 11 | 80
Catcher vessel | 6.32 | 1.08 | 2,000 | 126 | 22

GOA Amendment 80 Vessel Groundfish Harvest and PSC Limits

Amendment 80 to the Fishery Management Plan for Groundfish of the Bering Sea and Aleutian Islands Management Area (Amendment 80 program) established a limited access privilege program for the non-AFA trawl CP sector. To limit the ability of participants eligible for the Amendment 80 program to expand their harvest efforts in the GOA, the Amendment 80 program established groundfish and halibut PSC limits for Amendment 80 program participants.

Section 679.92 establishes groundfish harvesting sideboard limits on all Amendment 80 program vessels, other than the F/V GOLDEN FLEECE, to amounts no greater than the limits shown in Table 37 to part 679. Under regulations at § 679.92(d), the F/V GOLDEN FLEECE is prohibited from directed fishing for pollock, Pacific cod, Pacific ocean perch, pelagic shelf rockfish, and northern rockfish in the GOA.

Groundfish sideboard limits for Amendment 80 program vessels operating in the GOA are based on their average aggregate harvests from 1998 to 2004. Table 17 lists the proposed 2011 and 2012 sideboard limits for Amendment 80 program vessels. All targeted or incidental catch of sideboard species made by Amendment 80 program vessels will be deducted from the sideboard limits in Table 17.

Table 17—Proposed 2011 and 2012 GOA Groundfish Sideboard Limits for Amendment 80 Vessels
[Values are rounded to the nearest metric ton]
Species | Apportionments and allocations by season | Area | Ratio of Amendment 80 sector vessels 1998-2004 catch to TAC | Proposed 2011 and 2012 TAC (mt) | Proposed 2011 and 2012 Amendment 80 vessel sideboards (mt)
Pollock | A Season | Shumagin (610) | 0.003 | 7,342 | 22
| January 20-February 25 | Chirikof (620) | 0.002 | 11,129 | 22
|  | Kodiak (630) | 0.002 | 5,823 | 12
| B Season | Shumagin (610) | 0.003 | 7,342 | 22
| March 10-May 31 | Chirikof (620) | 0.002 | 13,128 | 26
|  | Kodiak (630) | 0.002 | 3,824 | 8
| C Season | Shumagin (610) | 0.003 | 10,022 | 30
| August 25-September 15 | Chirikof (620) | 0.002 | 6,451 | 13
|  | Kodiak (630) | 0.002 | 7,820 | 16
| D Season | Shumagin (610) | 0.003 | 10,022 | 30
| October 1-November 1 | Chirikof (620) | 0.002 | 6,451 | 13
|  | Kodiak (630) | 0.002 | 7,820 | 16
| Annual | WYK (640) | 0.002 | 2,686 | 5
Pacific cod | A Season ¹ | W | 0.020 | 15,419 | 308
| January 1-June 10 | C | 0.044 | 27,314 | 1,202
| B Season ² | W | 0.020 | 10,280 | 206
| September 1-December 31 | C | 0.044 | 18,210 | 801
| Annual | WYK | 0.034 | 2,203 | 75
Pacific ocean perch | Annual | W | 0.994 | 2,797 | 2,780
|  | WYK | 0.961 | 1,937 | 1,861
Northern rockfish | Annual | W | 1.000 | 2,549 | 2,549
Pelagic shelf rockfish | Annual | W | 0.764 | 607 | 464
|  | WYK | 0.896 | 405 | 363
¹ The Pacific cod A season for trawl gear does not open until January 20.
² The Pacific cod B season for trawl gear closes November 1.

The PSC sideboard limits for Amendment 80 program vessels in the GOA are based on the historic use of halibut PSC by Amendment 80 program vessels in each PSC target category from 1998 through 2004. These values are slightly lower than the average historic use to accommodate two factors: Allocation of halibut PSC cooperative quota under the Central GOA Rockfish Program and the exemption of the F/V GOLDEN FLEECE from this restriction. Table 18 lists the proposed 2011 and 2012 halibut PSC limits for Amendment 80 program vessels, as proscribed at Table 38 to 50 CFR part 679.

Table 18—Proposed 2011 and 2012 Halibut Prohibited Species Catch (PSC) Limits for Amendment 80 Vessels in the GOA
[Values are rounded to nearest metric ton]
Season | Season dates | Target fishery | Historic amendment 80 use of the annual halibut PSC limit catch (ratio) | Proposed 2011 and 2012 annual PSC limit (mt) | Proposed 2011 and 2012 Amendment 80 vessel PSC limit (mt)
1 | January 20-April 1 | shallow-water | 0.0048 | 2,000 | 10
|  | deep-water | 0.0115 | 2,000 | 23
2 | April 1-July 1 | shallow-water | 0.0189 | 2,000 | 38
|  | deep-water | 0.1072 | 2,000 | 214
3 | July 1-September 1 | shallow-water | 0.0146 | 2,000 | 29
|  | deep-water | 0.0521 | 2,000 | 104
4 | September 1-October 1 | shallow-water | 0.0074 | 2,000 | 15
|  | deep-water | 0.0014 | 2,000 | 3
5 | October 1-December 31 | shallow-water | 0.0227 | 2,000 | 45
|  | deep-water | 0.0371 | 2,000 | 74

Classification

NMFS has determined that the proposed harvest specifications are consistent with the FMP and preliminarily determined that the proposed harvest specifications are consistent with the Magnuson-Stevens Act and other applicable laws.

This action is authorized under 50 CFR 679.20 and is exempt from review under Executive Order 12866.

NMFS prepared an EIS for this action and made it available to the public on January 12, 2007 (72 FR 1512). On February 13, 2007, NMFS issued the Record of Decision for the EIS. Copies of the EIS and Record of Decision for this action are available from NMFS (see ADDRESSES). The EIS analyzes the environmental consequences of the proposed groundfish harvest specifications and its alternatives on resources in the action area. The EIS found no significant environmental consequences from the proposed action or its alternatives.

NMFS also prepared an Initial Regulatory Flexibility Analysis (IRFA) as required by section 603 of the Regulatory Flexibility Act. The IRFA evaluated the impacts on small entities of alternative harvest strategies for the groundfish fisheries in the EEZ off Alaska. The IRFA analyzed the methodology for establishing the relevant TACs. As set forth in the methodology, TACs are set to a level that fall within the range of ABCs recommended by the SSC; the sum of the TACs must achieve optimum yield specified in the FMP. While the specific numbers that the methodology may produce vary from year to year, the methodology itself remains constant. Accordingly, NMFS is using the IRFA prepared for the EIS in association with this action. Pursuant to sections 3.2.3 and 3.2.4 of the FMP, the established methodology produces ABCs and TACs within specified ranges and the numbers in this proposed rule's preferred alternative are within those ranges. NMFS published a notice of the availability of the IRFA and its summary in the classification section of the proposed harvest specifications for the groundfish fisheries in the GOA in the Federal Register on December 15, 2006 (71 FR 75460).

A description of the proposed action, why it is being considered, and the legal basis for this proposed action are contained in the preamble above. A copy of the analysis is available from NMFS (see ADDRESSES). A summary of the IFRA prepared in association with the 2007 harvest specifications EIS follows.

The action under consideration is a harvest strategy to govern the catch of groundfish in the GOA. The preferred alternative is the existing harvest strategy in which TACs fall within the range of ABCs recommended by the SSC. This action is taken in accordance with the FMP prepared by the Council pursuant to the Magnuson-Stevens Act.

The directly regulated small entities include approximately 747 small CVs and fewer than 20 small C/Ps. The entities directly regulated by this action are those that harvest groundfish in the exclusive economic zone of the GOA, and in parallel fisheries within State of Alaska waters. These include entities operating CVs and C/Ps within the action area, and entities receiving direct allocations of groundfish. Catcher vessels and C/Ps were considered to be small entities if they had annual gross receipts of $4 million per year or less from all economic activities, including the revenue of their affiliated operations. Data from 2005 were the most recent available and were used to determine the number of small entities.

Estimates of first wholesale gross revenues for the GOA were used as indices of the potential impacts of the alternative harvest strategies on small entities. An index of revenues was projected to decline under the preferred alternative due to declines in ABCs for key species in the GOA. The index of revenues declined by less than 4 percent between 2006 and 2007 and by less than one percent between 2006 and 2008.

The preferred alternative (Alternative 2) was compared to four other alternatives. These included Alternative 1, which would have set TACs to generate fishing rates equal to the maximum permissible ABC (if the full TAC were harvested), unless the sum of TACs exceeded the GOA OY, in which case harvests would be limited to the OY. Alternative 3 would have set TACs to produce fishing rates equal to the most recent five-year average fishing rate. Alternative 4 would have set TACs to equal the lower limit of the GOA OY range. Alternative 5 would have set TACs equal to zero. Alternative 5 is the “no action”, or status quo, alternative.

Alternatives 3, 4, and 5 were all associated with smaller levels for important fishery TACs than Alternative 2. Estimated total first wholesale gross revenues were used as an index of potential adverse impacts to small entities. As a consequence of the lower TAC levels, Alternatives 3, 4, and 5 all had smaller first wholesale revenue indices than Alternative 2. Thus, Alternatives 3, 4, and 5 had greater adverse impacts on small entities. Alternative 1 appeared to generate higher values of the gross revenue index for fishing operations in the GOA than Alternative 2. A large part of the Alternative 1 GOA revenue appeared to be due to the assumption that the full Alternative 1 TAC would be harvested. Much of the larger revenue was due to increases in flatfish TACs that were much greater for Alternative 1 than for Alternative 2. In recent years, halibut bycatch constraints in these fisheries have kept actual flatfish catches from reaching Alternative 1 levels. Therefore, a large part of the revenues associated with Alternative 1 are unlikely to occur. Also, Alternative 2 TACs are constrained by the ABCs that the Plan Teams and SSC are likely to recommend to the Council on the basis of a full consideration of biological issues. These ABCs are often less than Alternative 1's maximum permissible ABCs; therefore higher TACs under Alternative 1 may not be consistent with prudent biological management of the resource. For these reasons, Alternative 2 is the preferred alternative.

NMFS also prepared a supplemental IRFA (SIRFA) to specifically evaluate the proposed specification of separate OFLs and TACs for sharks, octopus, squid, and sculpins in the GOA, consistent with the previously selected harvest strategy, the tier system in the FMP, Amendment 87 to the FMP, the Magnuson-Stevens Act, and other applicable law (see ADDRESSES). Amendment 87 to the FMP was approved by NMFS on September 22, 2010. The SIRFA augments the IRFA prepared in connection with the 2007 Alaska Groundfish Harvest Specification EIS.

NMFS does not anticipate that the specification of TACs for sculpins will have any additional economic impacts on small entities beyond those impacts analyzed in the existing harvest specification IRFA because the proposed OFL and ABC are relatively large compared to recent historical catches.

In contrast, the proposed OFLs and TACs for sharks, octopuses, and squids could potentially result in some vessels choosing to shift the timing or location of their fishing activity in an effort to avoid high rates of incidental catch in an effort to avert the imposition of inseason management measures by NMFS to avoid overfishing. The impact of efforts undertaken by the fleet to avoid reaching the TAC and the potential closures that may follow are difficult to predict and would depend on the timing and location of incidental catches and the specific steps taken by the fleet to reduce the rate of incidental catch. Generally, however, the impact on these operations may be some combination of increased costs and/or decreased gross revenues as further described below.

The 2009 Economic Status of Groundfish Fisheries Off Alaska report, prepared in conjunction with the 2009 SAFE report (see ADDRESSES), identifies 702 small groundfish entities operating in the GOA, with average revenues from all sources of about $600,000. Most of these (697) are CVs. A majority of the CVs, 520, use hook-and-line gear and have average revenues of about $490,000, 73 are trawlers with average revenues of about $1.27 million, and 142 are pot vessels with average revenues of $850,000. There were five CPs, mostly hook-and-line vessels, with average gross revenues of about $1.52 million. The 2009 SAFE report may overstate the number of small entities, because it considers individual vessel gross revenues, but does not capture affiliations among vessels. All of these small entities would be directly regulated by the proposed action. As described below, however, certain small entities may be more likely than others to be adversely affected by the proposed action as a result of potential impacts associated with the incidental catch of sharks, octopus or squid in other target fisheries.

Sharks are incidentally caught in a large number of separate groundfish fisheries, with over half of the catch reported from fisheries using hook-and-line gear. There were an estimated 270 small sablefish hook-and-line vessels with an estimated average gross revenue from all sources of $770,000, an estimated 128 Pacific cod hook-and-line vessels with an average gross of $590,000, an estimated 21 small pelagic pollock trawlers with average gross revenues of about $1.02 million, five non-pelagic trawlers targeting arrowtooth flounder with average gross revenues of about $580,000, and five non-pelagic trawlers targeting shallow water flatfish with average gross revenues of about $650,000.

Most of the octopus catch occurs in the pot gear fishery for Pacific cod. There are an estimated 132 small vessels in this fishery, with estimated average gross revenues from all sources of about $880,000.

Almost all squid is caught in the pollock trawl fishery. Twenty-one small pollock vessels participate in this fishery with average gross revenues of about $1.02 million.

NMFS considered several alternatives to the proposed action of specifying separate OFLs and TACS for GOA sculpins, sharks, octopus, and squid species complexes. However, each of these alternatives has been eliminated from further consideration because it either does not minimize significant economic impacts on a substantial number of small entities or does not accomplish the stated objectives of, or is in conflict with the requirements of, applicable statutes.

The proposed action is intended to fulfill the agency's mandate to establish catch limits that are based on the best available scientific information, and which will achieve optimum yield while preventing overfishing. The proposed action is the alternative that is both consistent with the agency's obligations under the Magnuson-Stevens Fishery Conservation and Management Act and the FMP and minimizes the likelihood that the specification of TACs and OFLs for the sculpins, sharks, octopus, and squid species complexes will adversely affect small entities.

NMFS considered dividing the TACs for each of the species complexes among different regulatory areas in the GOA. Any such further division of the TACs would not change the total TACs for each species complex in the GOA as a whole. However, the incidental catch of fishing vessels that operate within each of the regulatory areas would be counted against a reduced TAC and OFL, which would increase the likelihood that the TAC or OFL would be reached and that one or more area closures may be triggered.

NMFS considered excusing small entities from compliance with the TACs for each of the species complexes evaluated in this SIRFA. However, the Magnuson-Stevens Act requires NMFS to implement conservation and management measures that prevent overfishing. Authorizing unlimited incidental catch of these species complexes by small entities would present an unacceptable risk of overfishing, and would not be consistent with the agency's obligations under Magnuson-Stevens Act, nor with the requirements of the Council's FMP.

In order to minimize the economic impacts of the proposed action, NMFS considered allocating relatively large portions of the TACs for each of the species complexes to potentially affected small entities. However, any such allocation, which would be motivated solely by economic considerations under the RFA, would not be consistent with National Standard 5, which states that “no [conservation and management measure] shall have economic allocation as its sole purpose.” 16 U.S.C. 1851(a)(5).

Finally, NMFS considered establishing a single group TAC for all four of the species complexes in the GOA, which would substantially reduce the likelihood that incidental catch would reach or exceed the TAC or OFL and result in area closures of target fisheries. However, the establishment of a stock complex comprised of species with such disparate life histories would not be consistent with the statutory requirement to establish catch limits that prevent overfishing for stocks in the fishery, nor with the Council's intent in enacting Amendments 87.

This action does not modify recordkeeping or reporting requirements, or duplicate, overlap, or conflict with any Federal rules.

Adverse impacts on marine mammals resulting from fishing activities conducted under this rule are discussed in the EIS (see ADDRESSES).

Authority: 16 U.S.C. 773 et seq.; 16 U.S.C. 1540(f); 16 U.S.C. 1801 et seq.; 16 U.S.C. 3631 et seq.; Pub. L. 105-277; Pub. L. 106-31; Pub. L. 106-554; Pub. L. 108-199; Pub. L. 108-447; Pub. L. 109-241; Pub. L. 109-479.

Dated: December 2, 2010.
Eric C. Schwaab,
Assistant Administrator for Fisheries, National Marine Fisheries Service.

[FR Doc. 2010-30686 Filed 12-7-10; 8:45 am]

BILLING CODE 3510-22-P